DEPARTMENT OF HOUSING AND URBAN DEVELOPMENT

[Docket No. FR-4723-FA-31]

Announcement of Funding Awards for the Rural Housing and Economic Development Program; Fiscal Year 2002

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Rural Housing and Economic Development Program. This announcement contains the names of the awardees and the amounts of the awards made available by HUD.

FOR FURTHER INFORMATION CONTACT: Jackie Williams-Mitchell, Director, Office of Rural Housing and Economic Development, Office of Community Planning and Development, 451 7th Street, SW., Room 7137, Washington, DC 20410; telephone (202) 708-2290 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Rural Housing and Economic Development program was authorized by the Department of Veterans Affairs, Housing and Urban Development and Independent Agencies Appropriations Act of 1999. The competition was announced in the SuperNOFA published March 26, 2002. Applications were rated and selected for funding on the basis of selection criteria contained in that Notice.

The Catalog of Federal Domestic Assistance number for this program is 14.250.

The Rural Housing and Economic Development Program is designed to build capacity at the State and local level for rural housing and economic development and to support innovative housing and economic development activities in rural areas. Eligible applicants are local rural non-profit organizations, community development corporations, Indian tribes, and State housing finance agencies. The funds made available under this program were awarded competitively, through a selection process conducted by HUD in consultation with the United States Department of Agriculture (USDA).

For the Fiscal Year 2002 competition, a total of $25,000,000 was awarded to 101 projects nationwide. In accordance with section 102(a)(4)(C) of the Department of Housing and Urban Development Reform Act of 1989 (103 Stat. 1987. 42 U.S.C. 3545), the Department is publishing the grantees and amounts of the awards in appendix A to this document.

Dated: March 27, 2003.
Roy A. Bernardi,
Assistant Secretary for Community, Planning and Development.

Appendix A.—Fiscal Year 2002 Funding Awards for Rural Housing and Economic Development Program
Applicant | City | State | Award
Rural Alaska Community Action Program, Inc | Anchorage | AK | $400,000
Tanana Chiefs Conference, Inc | Fairbanks | AK | 400,000
The Hale Empowerment and Revitalization Organization | Greensboro | AL | 93,153
Ark of Love Ministries | Hayneville | AL | 110,400
South Arkansas Community Development | Arkadelphia | AR | 150,000
Southern Financial Partners | Arkadelphia | AR | 150,000
Community Development Partnership | Eureka Springs | AR | 149,954
Native Resources Developer, Inc | Pago Pago Samoa | AS | 145,000
International Sonoran Desert Alliance | Ajo | AZ | 150,000
Elfrida Citizens' Alliance, Inc | Elfrida | AZ | 150,000
White Mountain Apache CDC | McNary | AZ | 400,000
Comite de Bien Estar, Inc | San Luis | AZ | 400,000
Catholic Community Services in Southeastern AZ | Sierra Vista | AZ | 400,000
PPEP Microbusiness and Housing Development Cor | Tucson | AZ | 400,000
White Mountain Apache Tribe of the Fort Apache Reservation | Yuma | AZ | 400,000
Campesinos Unidos, Inc | Brawley | CA | 150,000
Timbisha Shoshone Tribe | Brawley | CA | 149,112
Housing Assistance Corporation | Fresno | CA | 150,000
Community Advocacy Foundation | Fresno | CA | 400,000
South County Housing Corporation | Gilroy | CA | 400,000
North Fork Community Development Council, Inc | North Fork | CA | 100,000
Walking Shield American Indian Society, Inc | Tustin | CA | 400,000
Guidiville Indian Rancheria | Ukiah | CA | 150,000
San Pasqual Band of Mission Indians of California | Valley Center | CA | 150,000
Colorado Housing Inc | Pagosa Springs | CO | 148,750
Catholic Charities Housing, Inc | St Petersburg | FL | 400,000
Georgia Legal Services Program, Inc | Atlanta | GA | 150,000
Lower Chattahoochee Regional Development Center | Columbus | GA | 150,000
Southwest Georgia United Empowerment Zone, Inc | Vienna | GA | 399,996
Grow Iowa Foundation, Inc | Orient | IA | 150,000
Federation of Appalachian Housing Enterprises, Inc | Berea | KY | 150,000
Hazard Perry County Community Ministries, Inc | Hazard | KY | 400,000
Kentucky Highlands Investment Corporation | London | KY | 400,000
Purchase Area Housing Corporation | Mayfield | KY | 150,000
Kentucky River Foothills Development Council, Inc | Richmond | KY | 150,000
Southern Kentucky Economic Development Corp | Somerset | KY | 400,000
Community Housing, Inc | Winchester | KY | 134,000
Project 2000, Inc | Hammond | LA | 75,000
Four Directions Development Corp | Bangor | ME | 399,000
Western Maine Development Association | South Paris | ME | 150,000
Keweenaw Bay Indian Community | Baraga | MI | 145,015
Little River Band of Ottawa Indians | Manistee | MI | 400,000
Midwest Minnesota Community Development Corporation | Detroit Lakes | MN | 400,000
Three Rivers Community Action, Inc | Zumbrota | MN | 150,000
North East Comm. Action Corp | Bowling Green | MO | 50,000
Quitman County Development Organization | Marks | MS | 400,000
Native American Development Corporation | Billings | MT | 149,488
Blackfeet Tribe | Browning | MT | 400,000
Ktunaxa Community Development Corporation | Elmo | MT | 400,000
Fort Belknap Indian Community | Harlem | MT | 333,218
Fort Peck Assiniboine and Sioux Tribes | Poplar | MT | 400,000
Lake County Community Housing Organization | Ronan | MT | 148,460
Community Developers of Beaufort-Hyde, Inc | Belhaven | NC | 100,000
Northwestern Housing Enterprises, Inc | Boone | NC | 400,000
Eastern Band of Cherokee Indians | Cherokee | NC | 400,000
Native Opportunity Way Community Development Corp | Hollister | NC | 99,560
Laurinburg Downtown Revitalization Corporation | Laurinburg | NC | 150,000
Design Corps | Raleigh | NC | 400,000
Omaha Tribe of Nebraska | Macy | NE | 400,000
Santee Sioux Tribe of Nebraska | Niobrara | NE | 400,000
Ho-Chunk Community Development Corporation | Winnebago | NE | 384,500
New Mexico Mortgage Finance Authority | Albuquerque | NM | 400,000
Women's Intercultural Center, Inc | Anthony | NM | 150,000
Eastern Plains Housing Development Corporation | Clovis | NM | 100,000
Rio Grande Valley Housing and Economic Development Corp | Espanola | NM | 142,465
Las Cruces Affordable Housing, Inc | Las Cruces | NM | 150,000
Dona Ana County Advocates for Children and Families | Las Cruces | NM | 400,000
Hidalgo Medical Services | Lordsburg | NM | 150,000
Pojoaque Housing Corporation | Santa Fe | NM | 100,000
Fallon Paiute-Shoshone Tribe | Fallon | NV | 400,000
Western Catskills Community Revitalization Council, Inc | Stamford | NY | 150,000
Housing Authority of the Apache Tribe of Oklahoma | Anadarko | OK | 27,075
Housing Authority of the Choctaw Nation of Oklahoma | Hugo | OK | 100,000
Comanche Nation Housing Authority | Lawton | OK | 306,000
Citizen Potawatomi Nation | Shawnee | OK | 396,870
Cherokee Nation | Tahlequah | OK | 400,000
Burns Paiute Tribe | Burns | OR | 150,000
Confederated Tribes of the Umatilla Indian Reservation | Pendleton | OR | 297,000
State of Oregon | Salem | OR | 400,000
Four Bands Community Fund, Inc | Eagle Butte | SD | 150,000
Lakota Fund | Kyle | SD | 150,000
Sicangu Enterprise Center | Mission | SD | 150,000
Oglala Sioux Tribe Partnership for Housing, Inc | Pine Ridge | SD | 400,000
West Tennessee Legal Services, Inc | Jackson | TN | 149,984
Eastern Eight Community Development Corporation | Johnson City | TN | 16,000
Sparks Housing Development Corporation | El Paso | TX | 150,000
El Paso Collaborative for Community & Economic Develop | El Paso | TX | 400,000
Community Empowerment through Education (CETE) | El Paso | TX | 400,000
Rural Development and Finance Corporation | San Antonio | TX | 75,000
RDFC Housing Development Corporation | San Antonio | TX | 75,000
Azteca Community Loan Fund | San Juan | TX | 400,000
Center for Economic Opportunities | San Juan | TX | 400,000
Proyecto Azteca | San Juan | TX | 400,000
Texas Community Credit Opportunities, Inc | Weslaco | TX | 400,000
World Vision | Federal Way | WA | 150,000
Lopez Community Land Trust | Lopez | WA | 150,000
Northwest Regional Facilitators | Spokane | WA | 150,000
Sokoagon Chippewa Community | Crandon | WI | 150,000
Catholic Charities Bureau, Inc | Superior | WI | 100,000
Southern Appalachian Labor School | Kincaid | WV | 400,000
Northern Arapaho Housing Development Organization | Ethete | WY | 100,000
Total |  |  | $25,000,000

[FR Doc. 03-8552 Filed 4-7-03; 8:45 am]

BILLING CODE 4210-29-P